DEPARTMENT OF HEALTH AND HUMAN SERVICES

Administration for Children and Families

Submission for OMB Review; Comment Request

Title: Same-sex relationships: Updates to Healthy Marriage and Relationship Education.

OMB No.: New Collection.

Description: The Administration for Children and Families (ACF) will examine how healthy marriage programs currently approach, and could approach, serving sexual minority populations, that is, lesbian, gay, and bisexual populations. ACF expects to collect and analyze data from a range of information collection efforts—including interviews with program administrators, program managers, healthy marriage and relationship programming experts, and focus groups with program applicants and program attendees—to propose methods and practices for serving such couples/individuals/youth.

Respondents: Current program applicants and participants, program managers and facilitators, and experts in the field.

Annual Burden Estimates
Instrument (and appendix No.) | Total/ annual number of respondents | Number of responses per respondent | Average burden hours per response | Annual burden hours
Focus Group Guide for Adult Applicants (Instrument #1) | 18 | 1 | 1.5 | 27
Focus Group Guide for Adult Attendees (Instrument #2) | 36 | 1 | 1.5 | 54
Focus Group Guide for Youth (Instrument #3) | 36 | 1 | 1.5 | 54
Interview Guide with Experts (Instrument #4) | 12 | 1 | 1 | 12
Interview Guide with Program Managers (Instrument #5) | 10 | 1 | 1 | 10
Interview Guide with Facilitators (Instrument #6) | 10 | 1 | 1 | 10
Staff Recruitment Script | 90 | 1 | .25 | 23

Estimated Annual Burden Hours: 190.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Certifying Officer.

[FR Doc. 2016-02358 Filed 2-5-16; 8:45 am]

BILLING CODE 4184-73-P